DEPARTMENT OF ENERGY

Federal Energy Regulatory Commission

[Docket No. RP01-293-000]

Kern River Gas Transmission Company; Notice of Report of Fuel And Lost And Unaccounted-for Gas Factors for 2000

April 3, 2001.

Take notice that on March 28, 2001, Kern River Gas Transmission Company (Kern River) tendered a report supporting its fuel and lost and unaccounted-for gas factors for 2000.

Kern River states that it has served a copy of this filing upon its customers and interested state regulatory commissions.

Any person desiring to be heard or to protest said filing should file a motion to intervene or a protest with the Federal Energy Regulatory Commission, 888 First Street NE., Washington, DC 20426, in accordance with Sections 385.214 or 385.211 of the Commission's Rules and Regulations. All such motions or protests must be filed on or before April 10, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8590 Filed 4-5-01; 8:45 am]

BILLING CODE 6717-01-M